DEPARTMENT OF TRANSPORTATION

Federal Aviation Administration

14 CFR Part 39

[Docket No. 2002-NM-211-AD]

RIN 2120-AA64

Airworthiness Directives; Airbus Model A300 B4 Series Airplanes and Model A300 B4-600, A300 B4-600R, and A300 F4-600R (Collectively Called A300-600) Series Airplanes

AGENCY: Federal Aviation Administration, DOT.

ACTION: Supplemental notice of proposed rulemaking; reopening of comment period.

SUMMARY: This document revises an earlier proposed airworthiness directive (AD), applicable to all Airbus Model A300 B4 series airplanes and all Airbus Model A300-600 series airplanes, that would have superseded an existing AD that currently requires a one-time high frequency eddy current inspection to detect cracking of the splice fitting at fuselage frame (FR) 47 between stringers 24 and 25; and corrective actions if necessary. The original NPRM proposed to require new repetitive inspections of an expanded area, and would have added airplanes to the applicability in the existing AD. This new action revises the original NPRM by adding airplanes to the applicability. The actions specified by this new proposed AD are intended to detect and correct cracking of the splice fitting at fuselage FR 47, which could result in reduced structural integrity of the airplane. This action is intended to address the identified unsafe condition.

DATES: Comments must be received by August 30, 2004.

ADDRESSES: Submit comments in triplicate to the Federal Aviation Administration (FAA), Transport Airplane Directorate, ANM-114, Attention: Rules Docket No. 2002-NM-211-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-211-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Tim Backman, Aerospace Engineer, International Branch, ANM-116, Transport Airplane Directorate, 1601 Lind Avenue, SW., Renton, Washington 98055-4056; telephone (425) 227-2797; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-211-AD.” The postcard will be date stamped and returned to the commenter.

Availability of NPRMs

Any person may obtain a copy of this NPRM by submitting a request to the FAA, Transport Airplane Directorate, ANM-114, Attention: Rules Docket No. 2002-NM-211-AD, 1601 Lind Avenue, SW., Renton, Washington 98055-4056.

Discussion

A proposal to amend part 39 of the Federal Aviation Regulations (14 CFR part 39) to add an airworthiness directive (AD), applicable to all Airbus Model A300 B4 series airplanes and all Airbus Model A300-600 series airplanes, was published as a notice of proposed rulemaking (NPRM) in the Federal Register on December 17, 2003 (68 FR 70206). That NPRM proposed to supersede AD 2001-03-14, amendment 39-12118 (66 FR 10957, February 21, 2001), which is applicable to certain Airbus Model A300 series airplanes and all Airbus Model A300-600 series airplanes. That NPRM would have added new repetitive inspections of an expanded area of the splice fitting at fuselage frame (FR) 47, and would have added airplanes to the applicability of the existing AD. That NPRM was prompted by cracks found on airplanes on which the modification required by the existing AD had been done. That condition, if not corrected, could result in reduced structural integrity of the airplane.

Comments

Due consideration has been given to the comments received in response to the original NPRM. One commenter has no technical objection.

Request To Reference Latest Revisions of Service Information

One commenter asks that Airbus Service Bulletin A300-53-6123, Revision 02, dated November 12, 2002, be added to the original NPRM. (Revision 01 of that service bulletin was referenced in the original NPRM for accomplishment of certain actions.) The commenter states that Revision 02 adds improvements after the service bulletin kits specified in Revision 01 were validated on an airplane, and notes that adding Revision 02 will eliminate requests for approval of alternative methods of compliance. The commenter also notes that Revision 02 adds nine airplanes to the effectivity of the service bulletin.

Another commenter asks that Airbus Service Bulletin A300-53-0350, Revision 02, dated November 12, 2002, be added to the original NPRM. (Revision 01 of that service bulletin was referenced in the original NPRM for accomplishment of certain actions.)

The FAA agrees with the commenters' requests. The procedures in Revision 02 of both service bulletins are essentially the same as those in Revision 01 of the referenced service bulletins. However, Revision 02 of the service bulletins adds nine U.S. airplanes to the effectivity of the service bulletins. Accordingly, the Cost Impact section of this supplemental NPRM has been changed to include the additional airplanes. We also have revised paragraphs (a), (b), and (c) of this supplemental NPRM to refer to Revision 02 of the Airbus service bulletins as the appropriate sources of service information for accomplishment of the required actions. We have added a new paragraph (d) (and reidentified subsequent paragraphs accordingly) to state that inspections and repairs accomplished before the effective date of this AD per Revision 01 of the service bulletins are acceptable for compliance with the requirements of this supplemental NPRM.

Request To Remove Interim Action

One commenter, the manufacturer, states that the repetitive inspections should not be considered as an interim action. The commenter adds that, “Due to the fact that, in this specific location, the splice is considered as a “fuse part” (to be replaced when found cracked, the residual strength analysis has shown that the structure is able to sustain ultimate loads with the complete failure of splices—both sides—and able to sustain limit loads with the complete failure of frame and splices) * * *” The commenter states that the Direction Générale de l'Aviation Civile (DGAC), which is the airworthiness authority for France, agrees that the repetitive inspections required by French airworthiness directive 2002-184(B), dated April 3, 2002 (referenced in the original NPRM), are the final fix.

We agree. In light of the data provided by the commenter, and consistent with the findings of the DGAC, we will not retain the Interim Action section in this supplemental NPRM. In making this determination, we consider that long-term continued operational safety in this case will be adequately ensured by repetitive inspections to detect cracking before it represents a hazard to the airplane, and by repair within the specified time limits. Accordingly, the Interim Action section has been removed from this supplemental NPRM.

Conclusion

Since the addition of airplanes to the applicability of this supplemental NPRM expands the scope of the originally proposed rule, we have determined that it is necessary to reopen the comment period to provide additional opportunity for public comment.

Cost Impact

This supplemental NPRM would affect about 92 airplanes of U.S. registry.

The inspection of an expanded area that is proposed in this AD action would take approximately 29 work hours per airplane to accomplish, at an average labor rate of $65 per work hour. Based on these figures, the cost impact of the proposed inspection on U.S. operators is estimated to be $173,420, or $1,885 per airplane, per inspection cycle.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation: (1) Is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12118 (66 FR 10957, February 21, 2001), and by adding a new airworthiness directive (AD), to read as follows:

Airbus: Docket 2002-NM-211-AD. Supersedes AD 2001-03-14, Amendment 39-12118.

Applicability: All Model A300 B4-600, B4-600R, and F4-600R (Collectively Called A300-600) series airplanes; and all Model A300 B4 series airplanes; certificated in any category.

Compliance: Required as indicated, unless accomplished previously.

To detect and correct cracking of the splice fitting at fuselage frame (FR) 47, which could result in reduced structural integrity of the airplane, accomplish the following:

Repetitive Inspections

(a) For airplanes defined in Airbus Service Bulletin A300-53-0350, Revision 02, dated November 12, 2002: Do a high frequency eddy current (HFEC) inspection to detect cracking of the splice fitting at fuselage FR 47 between stringers 24 and 26 (left- and right-hand sides), at the applicable times specified in paragraph (a)(1) or (a)(2) of this AD. Repeat the inspection thereafter at the earlier of the flight-cycle/flight-hour intervals specified in the applicable column in Table 2 of Figure 1 and Sheet 1 of the Accomplishment Instructions of the service bulletin. Do the inspections in accordance with the service bulletin, excluding Appendix 01.

(1) For airplanes that have accumulated 20,000 or more total flight cycles as of the effective date of this AD: Do the initial inspection at the later of the times specified in paragraphs (a)(1)(i) and (a)(1)(ii) of this AD:

(i) At the earlier of the flight-cycle/flight-hour intervals after the effective date of this AD, as specified in the applicable column in Table 1 of Figure 1 and Sheet 1 of the Accomplishment Instructions of the service bulletin.

(ii) Within 750 flight cycles or 1,500 flight hours after the effective date of this AD, whichever is first.

(2) For airplanes that have accumulated fewer than 20,000 total flight cycles as of the effective date of this AD: Do the initial inspection at the later of the times specified in paragraphs (a)(2)(i) and (a)(2)(ii) of this AD.

(i) At the earlier of the flight-cycle/flight-hour intervals after the effective date of this AD, as specified in the applicable column in Table 1 of Figure 1 and Sheet 1 of the Accomplishment Instructions of the service bulletin.

(ii) Within 1,800 flight cycles or 3,000 flight hours after the effective date of this AD, whichever is first.

(b) For airplanes defined in Airbus Service Bulletin A300-53-6123, Revision 01, dated December 18, 2001: Do the HFEC inspection required by paragraph (a) of this AD at the applicable times specified in paragraph (b)(1) or (b)(2) of this AD. Repeat the inspection thereafter at the earlier of the flight-cycle/flight-hour intervals specified in the applicable column in Table 2 of Figure 1 and Sheet 1 of the Accomplishment Instructions of the service bulletin. Do the inspections in accordance with the service bulletin, excluding Appendix 01.

(1) For airplanes that have accumulated 10,000 or more total flight cycles as of the effective date of this AD: Do the initial inspection within 750 flight cycles or 1,900 flight hours after the effective date of this AD, whichever is first.

(2) For airplanes that have accumulated fewer than 10,000 total flight cycles as of the effective date of this AD: Do the initial inspection at the later of the times specified in paragraphs (b)(2)(i) and (b)(2)(ii) of this AD.

(i) At the earlier of the flight-cycle/flight-hour intervals after the effective date of this AD, as specified in the applicable column in Table 1 of Figure 1 and Sheet 1 of the Accomplishment Instructions of the service bulletin.

(ii) Within 1,500 flight cycles or 3,800 flight hours after the effective date of this AD, whichever is first.

Repair

(c) Repair any cracking found during any inspection required by this AD before further flight, in accordance with Airbus Service Bulletin A300-53-0350 or A300-53-6123, both Revision 02, both excluding Appendix 01, both dated November 12, 2002; as applicable. Where the service bulletins specify to contact Airbus in case of certain crack findings, this AD requires that a repair be accomplished before further flight in accordance with a method approved by either the Manager, International Branch, ANM-116, FAA, Transport Airplane Directorate; or the Direction Generale de l'Aviation Civile (DGAC) (or its delegated agent).

Credit for Previous Issues of Airbus Service Bulletin

(d) Accomplishment of the actions before the effective date of this AD in accordance with Airbus Service Bulletin A300-53-0350 or A300-53-6123, Revision 01, dated December 18, 2001; is considered acceptable for compliance with the corresponding actions specified in this AD.

Alternative Methods of Compliance

(e) In accordance with 14 CFR 39.19, the Manager, International Branch, ANM-116, is authorized to approve alternative methods of compliance for this AD.

Note 1: The subject of this AD is addressed in French airworthiness directive 2002-184(B), dated April 3, 2002.

Issued in Renton, Washington, on July 27, 2004.
Kyle L. Olsen,
Acting Manager, Transport Airplane Directorate, Aircraft Certification Service.

[FR Doc. 04-17762 Filed 8-3-04; 8:45 am]

BILLING CODE 4910-13-P